DEPARTMENT OF THE INTERIOR

National Park Service

Notice of Inventory Completion: UCLA Fowler Museum of Cultural History, University of California, Los Angeles, Los Angeles, CA, and California Department of Parks and Recreation, Sacramento, CA

AGENCY: National Park Service, Interior.

ACTION: Notice.

Notice is here given in accordance with the Native American Graves Protection and Repatriation Act (NAGPRA), 25 U.S.C. 3003, of the completion of an inventory of human remains and associated funerary objects in the possession of the UCLA Fowler Museum of Cultural History, University of California, Los Angeles, Los Angeles, CA, and in the control of the California Department of Parks and Recreation, Sacramento, CA. The human remains and associated funerary objects were removed from Anza-Borrego Desert State Park, San Diego County, CA.

This notice is published as part of the National Park Service's administrative responsibilities under NAGPRA, 25 U.S.C. 3003 (d)(3). The determinations within this notice are the sole responsibility of the museum, institution, or Federal agency that has control of the Native American human remains and associated funerary objects. The National Park Service is not responsible for the determinations within this notice.

A detailed assessment of the human remains was made by UCLA Fowler Museum of Cultural History and California Department of Parks and Recreation professional staff in consultation with members of the Kumeyaay Cultural Repatriation Committee, authorized NAGPRA representative of the Barona Group of Capitan Grande Band of Mission Indians of the Barona Reservation, California; Campo Band of Diegueno Mission Indians of the Campo Indian Reservation, California; Cuyapaipe Community of Diegueno Mission Indians of the Cuyapaipe Reservation, California; Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; Santa Ysabel Band of Diegueno Mission Indians of the Santa Ysabel Reservation, California; Sycuan Band of Diegueno Mission Indians of California; and Viejas (Baron Long) Group of Capitan Grande Band of Mission Indians of the Viejas Reservation, California.

In 1958, human remains representing a minimum of five individuals were removed from five cremation sites (SDI-335, SDI-359, SDI-379, SDI-434, and SDI-526) in Anza-Borrego Desert State Park, San Diego County, CA, by Dr. Clement Meighan. No known individuals were identified. The 675 associated funerary objects are 3 basket fragments, 56 shell beads, 2 glass beads, 4 chipped stones, 1 deer bone, 1 worked bone, 41 flakes, 1 bag of cordage fragments, 1 bag of shell fragments, 9 shell ornaments and pendants, 1 haliotis shell fragment, 1 obsidian point, 553 ceramic sherds, and 1 bifacial mano.

In 1959, human remains representing a minimum of three individuals were removed from the Angelina Springs cremation site (SDI-453) in Anza-Borrego Desert State Park, San Diego County, CA, by Joan Townsend, a University of California, Los Angeles anthropology student. No known individuals were identified. The four associated funerary objects are one burned steatite pipe, one bag of steatite fragments, one bag of charcoal fragments, and one bag of burned animal bones.

The collections described above were made during a survey of the Anza-Borrego Desert State Park, supervised by Dr. Clement Meighan of the University of California, Los Angeles and supported by the California Department of Parks and Recreation. According to Dr. Meighan, in a 1959 article “Archaeological Resources of Borrego Desert State Park,” the sites from which the cultural items were removed are located in an area formerly occupied by two Yuman groups, the Northern Diegueno and the Kamia, both of which are ancestral to present-day Kumeyaay groups. Also according to Dr. Meighan, “the sites seem to belong to the pottery-using period, which is to say since about 1000 A.D.” Some sites in the area have been dated into the Historic period. A spokesman for the Kumeyaay Cultural Repatriation Committee also identified Anza-Borrego Desert State Park as within the traditional territory of the Kumeyaay. The artifacts and burial practices are consistent with others documented as associated with the indigenous inhabitants of the area. The Kumeyaay Indians are represented by the present-day Indian tribes that are members of the Kumeyaay Cultural Repatriation Committee.

Officials of the California Department of Parks and Recreation have determined that, pursuant to 25 U.S.C. 3001 (9-10), the human remains described above represent the physical remains of eight individuals of Native American ancestry. Officials of the California Department of Parks and Recreation also have determined that, pursuant to 25 U.S.C. 3001(3)(A), the 679 objects described above are reasonably believed to have been placed with or near individual human remains at the time of death or later as part of the death rite or ceremony. Lastly, officials of the California Department of Parks and Recreation have determined that, pursuant to 25 U.S.C. 3001 (2), there is a relationship of shared group identity that can be reasonably traced between the Native American human remains and associated funerary objects and the Barona Group of Capitan Grande Band of Mission Indians of the Barona Reservation, California; Campo Band of Diegueno Mission Indians of the Campo Indian Reservation, California; Cuyapaipe Community of Diegueno Mission Indians of the Cuyapaipe Reservation, California; Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; Santa Ysabel Band of Diegueno Mission Indians of the Santa Ysabel Reservation, California; Sycuan Band of Diegueno Mission Indians of California; and Viejas (Baron Long) Group of Capitan Grande Band of Mission Indians of the Viejas Reservation, California.

Representatives of any other Indian tribe that believes itself to be culturally affiliated with the human remains and associated funerary objects should contact Paulette Hennum, NAGPRA Coordinator, Cultural Resources Division, California State Parks, P.O. Box 942896, Sacramento, CA 94296-0001, telephone: (916) 653-7976, before November 7, 2003. Repatriation of the human remains and associated funerary objects to the Kumeyaay Cultural Repatriation Committee on behalf of the Barona Group of Capitan Grande Band of Mission Indians of the Barona Reservation, California; Campo Band of Diegueno Mission Indians of the Campo Indian Reservation, California; Cuyapaipe Community of Diegueno Mission Indians of the Cuyapaipe Reservation, California; Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; Santa Ysabel Band of Diegueno Mission Indians of the Santa Ysabel Reservation, California; Sycuan Band of Diegueno Mission Indians of California; and Viejas (Baron Long) Group of Capitan Grande Band of Mission Indians of the Viejas Reservation, California may proceed after that date if no additional claimants come forward.

The California Department of Parks and Recreation is responsible for notifying the Kumeyaay Cultural Repatriation Committee, the Barona Group of Capitan Grande Band of Mission Indians of the Barona Reservation, California; Campo Band of Diegueno Mission Indians of the Campo Indian Reservation, California; Cuyapaipe Community of Diegueno Mission Indians of the Cuyapaipe Reservation, California; Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; Santa Ysabel Band of Diegueno Mission Indians of the Santa Ysabel Reservation, California; Sycuan Band of Diegueno Mission Indians of California; and Viejas (Baron Long) Group of Capitan Grande Band of Mission Indians of the Viejas Reservation, California that this notice has been published.

Dated: August 6, 2003.
John Robbins,
Assistant Director, Cultural Resources.

[FR Doc. 03-25534 Filed 10-7-03; 8:45 am]

BILLING CODE 4310-70-S